FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicant

EZ Logistics LLC, 120 Sylvan Avenue, Ste. 3, Englewood Cliffs, NJ 07632. Officer: Yong Zhao, Member (Qualifying Individual).

Non-Vessel Operating Common Carrier and Ocean Freight Forwarder Transportation Intermediary Applicant

A&A Contract Customs Brokers USA, Inc., 2-12th Street, Blaine, WA 98230. Officer: Carlos Verduzoo, Vice President (Qualifying Individual).

Ocean Freight Forwarder—Ocean Transportation Intermediary Applicant

Allcargo International Shipping, Inc., 12808 Panhandle Road, Hampton, GA 30228. Officer: Ella J. Davis, President (Qualifying Individual).

Dated: May 9, 2008.
Karen V. Gregory,
Assistant Secretary.

[FR Doc. E8-10787 Filed 5-13-08; 8:45 am]

BILLING CODE 6730-01-P